DEPARTMENT OF ENERGY

Federal Energy Regulatory Commission

[Docket No. ER98-495-019, et al.]

Geysers Power Company, LLC, et al.; Electric Rate and Corporate Regulation Filings

September 26, 2000.

Take notice that the following filings have been made with the Commission:

1. Geysers Power Company, LLC

[Docket No. ER98-495-019]

Take notice that on September 21, 2000, Geysers Power Company, LLC (Geysers Power) filed its final report regarding refunds for the reliability must-run (RMR) agreement under which Geysers Power provides RMR services to the Independent System Operator Corporation (ISO). Geysers Power submits the final refund report in accordance with the Commission letter order dated January 31, 2000, Geysers Power Company, LLC, 90 FERC ¶ 61,096 (2000) approving the settlement among Geysers Power, Pacific Gas and Electric Company, the ISO and the California Electricity Oversight Board.

As stated in its interim refund report filed on March 16, 2000, Geysers Power issued refunds to the ISO by crediting the refund amount which resulted from the settlement against subsequent charges for RMR services. Geysers Power's refund obligation has now been fulfilled.

Comment date: October 12, 2000, in accordance with Standard Paragraph E at the end of this notice.

2. Entergy Services, Inc.

[Docket No. ER00-2415-001]

Take notice that on September 21, 2000, Entergy Services, Inc. (Entergy Services), as agent for Entergy Arkansas, Inc., Entergy Gulf States, Inc., Entergy Louisiana, Inc., Entergy Mississippi, Inc., and Entergy New Orleans, Inc. (collectively, the Entergy Operating Companies), tendered for filing certain corrections to the 2000 annual rate redetermination for Entergy Services' Open Access Transmission Tariff.

Comment date: October 12, 2000, in accordance with Standard Paragraph E at the end of this notice.

3. Entergy Services, Inc.

[Docket No. ER00-2854-001]

Take notice that on September 21, 2000, pursuant to the Commission's order issued in the above-referenced docket on August 22, 2000, Entergy Services, Inc., 92 FERC ¶ 61,171 (2000), Entergy Services, Inc., on behalf of the Entergy Operating Companies (Entergy Arkansas, Inc., Entergy Gulf States, Inc., Entergy Louisiana, Inc., Entergy Mississippi, Inc. and Entergy New Orleans, Inc.) (collectively, Entergy), re-filed the entire System Agreement according to the requirements of Order No. 614, 65 Fed. Reg. 18,221, FERC Stats. and Regs. ¶ 31,096 (2000).

Entergy has served a copy of this filing on the service list in the above-referenced docket.

Comment date: October 12, 2000, in accordance with Standard Paragraph E at the end of this notice.

4. DePere Energy Marketing, Inc.

[Docket No. ER00-3446-001]

Take notice that on September 21, 2000, DePere Energy Marketing, Inc. tendered for filing, pursuant to Order No. 614, the rate schedule designations for the cancellation of its Rate Schedule FERC No. 1.

Comment date: October 12, 2000, in accordance with Standard Paragraph E at the end of this notice.

5. Virginia Electric and Power Company

[Docket No. ER00-3724-000]

Take notice that on September 21, 2000, Virginia Electric and Power Company (Virginia Power) tendered for filing a Letter of Termination from PPL EnergyPlus, LLC, successor to Pennsylvania Power and Light Co. (PP&L). The Letter of Termination requests termination of the Service Agreement with Virginia Power dated May 15, 1995 and approved by the FERC in an order dated July 19, 1995 in Docket No. ER95-1214-000. Virginia Power requests that the Letter of Termination be designated as Second Revised Service Agreement No. 17 under FERC Electric Tariff, Original Volume No. 4.

Virginia Power respectfully requests an effective date of the termination of the Service Agreement of November 6, 2000, as requested by PPL EnergyPlus, LLC.

Copies of the filing were served upon PPL EnergyPlus, LLC, the Virginia State Corporation Commission and the North Carolina Utilities Commission.

Comment date: October 12, 2000, in accordance with Standard Paragraph E at the end of this notice.

6. PacifiCorp

[Docket No. ER00-3725-000]

Take notice that on September 21, 2000, PacifiCorp tendered for filing in accordance with 18 CFR Part 35 of the Commission's Rules and Regulations, a Notice of Filing Mutual, and a Netting/Closeout Agreement (Netting Agreement) between PacifiCorp and the BP Energy Company (BP).

Copies of this filing were supplied to the Washington Utilities and Transportation Commission and the Public Utility Commission of Oregon.

Comment date: October 12, 2000, in accordance with Standard Paragraph E at the end of this notice.

7. PacifiCorp

[Docket No. ER00-3726-000]

Take notice that on September 21, 2000, PacifiCorp tendered for filing in accordance with 18 CFR Part 35 of the Commission's Rules and Regulations, an umbrella Service Agreement with Coral Power LLC (Coral) under PacifiCorp's FERC Electric Tariff, Third Revised Volume No. 12 (Tariff). In addition, PacifiCorp has resubmitted the Tariff in accordance with the Commission's Order No. 614.

Copies of this filing were supplied to the Washington Utilities and Transportation Commission and the Public Utility Commission of Oregon.

Comment date: October 12, 2000, in accordance with Standard Paragraph E at the end of this notice.

8. Entergy Services, Inc.

[Docket No. ER00-3728-000]

Take notice that on September 21, 2000, Entergy Services, Inc., on behalf of Entergy Arkansas, Inc., tendered for filing an Interconnection and Operating Agreement with Wrightsville Power Facility, LLC (Wrightsville), and a Generator Imbalance Agreement with Wrightsville.

Comment date: October 12, 2000, in accordance with Standard Paragraph E at the end of this notice.

9. Public Service Company of Oklahoma

[Docket No. ER00-3729-000]

Take notice that on September 21, 2000, Public Service Company of Oklahoma (PSO) filed an Interconnection Agreement between PSO and Panda Oneta Power, L.P. (Panda).

PSO states that a copy of the filing was served on Panda and the Oklahoma Corporation Commission.

Comment date: October 12, 2000, in accordance with Standard Paragraph E at the end of this notice.

10. KPIC North America Corporation

[Docket No. ER00-3734-000]

Take notice that on September 21, 2000, KPIC North America Corporation (Seller) petitioned the Commission for an order: (1) Accepting Seller's proposed FERC Electric Tariff (Market-Based Rate Tariff); (2) granting waiver of certain requirements under Subparts B and C of Part 35 of the regulations, (3) granting the blanket approvals normally accorded sellers permitted to sell at market-based rates, and (4) granting waiver of the 60-day notice period.

Comment date: October 12, 2000, in accordance with Standard Paragraph E at the end of this notice.

11. Cinergy Services, Inc.

[Docket No. ER00-3737-000]

Take notice that on September 21, 2000, Cinergy Services, Inc. (Cinergy) tendered for filing a Service Agreement under Cinergy's Resale, Assignment or Transfer of Transmission Rights and Ancillary Service Rights Tariff (the Tariff) entered into between Cinergy and TXU Energy Trading Company (TXU). This Service Agreement has been executed by both parties and is to replace the existing unexecuted Service Agreement.

Comment date: October 12, 2000, in accordance with Standard Paragraph E at the end of this notice.

12. Cinergy Services, Inc.

[Docket No. ER00-3738-000]

Take notice that on September 21, 2000, Cinergy Services, Inc. (Cinergy) tendered for filing a Service Agreement under Cinergy's Resale, Assignment or Transfer of Transmission Rights and Ancillary Service Rights Tariff (the Tariff) entered into between Cinergy and Canadian Niagara Power Co., LTD. (CanNiagara). This Service Agreement has been executed by both parties and is to replace the existing unexecuted Service Agreement.

Comment date: October 12, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-25405 Filed 10-3-00; 8:45 am]

BILLING CODE 6717-01-P